DEPARTMENT OF THE INTERIOR

Bureau of Land Management

[20X.LLAK930000.L51010000. 000000.LVRWL20L1090]

Notice of Availability of the Draft Supplemental Environmental Impact Statement for the Willow Master Development Plan, Alaska

AGENCY: Bureau of Land Management, Interior.

ACTION: Notice of availability.

SUMMARY: The Bureau of Land Management (BLM) prepared a Draft Supplemental Environmental Impact Statement (EIS) to address deficiencies identified by the U.S. District Court for the District of Alaska in the 2020 Willow Master Development Plan (MDP)/Final Environmental Impact Statement and Record of Decision (ROD) issued in October 2020, and to ensure compliance with applicable law. The BLM, by this notice, is announcing the opening of the public comment period on this Draft Supplemental EIS and is also announcing that it intends to hold in-person public meetings in Utqiagvik and Nuiqsut, as well as three virtual public meetings. A hearing to receive comments on the Draft Supplemental EIS and the proposed project's potential to impact subsistence resources and activities will be held in Nuiqsut concurrent with the planned in-person public meeting.

DATES: To afford the BLM the opportunity to consider comments, please ensure that the BLM receives your comments within 45 days following the date the Environmental Protection Agency (EPA) publishes its Notice of Availability (NOA) of the Draft Supplemental EIS in the Federal Register. To ensure that comments will be considered, the BLM must receive written comments on the Draft Supplemental EIS for the Willow Master Development Plan by August 29, 2022. Dates, times, and locations of public meetings and subsistence hearings will be announced at least 15 days in advance on the project website, as well as through various additional means such as public notices, media releases, social media posts, and mailings.

ADDRESSES: You may submit comments on issues related to the Draft Supplemental EIS by any of the following methods:

• BLM's National Environmental Policy Act (NEPA) Register website: https://eplanning.blm.gov/eplanning-ui/project/109410/510.

• Mail: 222 W 7th Avenue, Stop #13, Anchorage, Alaska 99513.

More details and instructions for submitting public comment may be found on the BLM NEPA Register website at https://eplanning.blm.gov/eplanning-ui/project/109410/510. Documents pertinent to this proposal may be examined at the NEPA Register website.

FOR FURTHER INFORMATION CONTACT: Stephanie Rice at (907) 271-3202, or by email at srice@blm.gov, on questions specific to NEPA or to have your name added to our mailing list. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The Willow project was originally analyzed in the 2020 Willow MDP/Final EIS and authorized in a ROD issued in October 2020. In August 2021, the U.S. District Court for the District of Alaska vacated the ROD and remanded the matter to BLM to correct deficiencies in the EIS regarding analysis of foreign greenhouse gas emissions and screening of alternatives for detailed analysis. In order to comply with this ruling, the BLM made numerous updates to the analysis, including development of a new alternative that substantially reduces infrastructure in the Teshekpuk Lake Special Area. This Draft Supplemental EIS complies with all applicable laws and current Department of the Interior guidance, including (but not limited to) NEPA, the Federal Land Policy and Management Act of 1976, the Alaska National Interest Lands Conservation Act, and the Naval Petroleum Reserves Production Act.

The input of Alaska Native Tribes and Corporations is of critical importance to this Supplemental EIS. Therefore, during the NEPA process, the BLM will continue to consult with potentially affected Federally recognized Tribes on a government-to-government basis, and with affected Alaska Native Corporations in accordance with Executive Order 13175, as well as Public Law 108-199, Div. H, sec. 161, 118 Stat. 452, as amended by Public Law 108-447, Div. H, sec. 518, 118 Stat. 3267, and other Department and Bureau policies. We respectfully request participation in consultation by Alaska Native Tribes and Alaska Native Corporations to provide their views and recommendations on the analysis, including effects from the proposed activities. The BLM will hold individual consultation meetings upon request.

It is important that reviewers provide their comments at such times and in such manner that they are useful to the agency's preparation of the Supplemental EIS. Therefore, comments should be provided prior to the close of the comment period and should clearly articulate the reviewer's concerns and contentions. Comments received in response to this solicitation, including names and addresses of those who comment, will be part of the public record for this proposed action. Comments submitted anonymously will be accepted and considered.

Before including your address, phone number, email address, or other personal identifying information in your comment, you should be aware that your entire comment—including your personal identifying information—may be made publicly available at any time. While you can ask us in your comment to withhold your personal identifying information from public review, we cannot guarantee that we will be able to do so.

(Authority: 40 CFR 1506.6(b))

Steven Cohn,
State Director, BLM Alaska.

[FR Doc. 2022-15757 Filed 7-22-22; 8:45 am]

BILLING CODE 4310-JA-P